DEPARTMENT OF THE INTERIOR

National Park Service

National Register of Historic Places; Notification of Pending Nominations

Nominations for the following properties being considered for listing in the National Register were received by the National Park Service before September 18, 2004. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by October 27, 2004.

Carol D. Shull,
Keeper of the National Register of Historic Places.

ALASKA

Prince of Wales-Outer K. Borough-Census Area

Tree Point Lighthouse, (Light Stations of the United States MPS) West coast of the mainland, E side of Southern entrance to the Revillagigedo Channel about 4.25 mi. N of Cape Fox, Ketchiken, 04001177

COLORADO

Denver County

Sherman Street Historic District, Approx. 1000 to 1099 Sherman St., Denver, 04001178

CONNECTICUT

Fairfield County

Hampton Inn, 179 Oenoke Ridge Rd., New Canaan, 04001208

GEORGIA

Emanuel County

Swainsboro Light and Water Plant, Bounded by East Moring and South Coleman Sts. and the Norfolk Southern Railway, Swainsboro, 04001184

Fulton County

Great Atlantic & Pacific Tea Company, 881 Memorial Dr., Atlanta, 04001183

Palmer House and Phelan House Apartments, 952 Peachtree St. and 81 and 93 Peachtree Place, Atlanta, 04001182

Glynn County

Ballard School, 323 Old Jesup Hwy., Brunswick, 04001181

Henry County

Henderson Manufacturing Company, 10 James St., Hampton, 04001180

Irwin County

Ocilla Public School, 4th and Alder Sts., Ocilla, 04001186

Liberty County

Ripley, Sam, Farm, 1337 Dorchester Village Rd., Midway, 04001187

Richmond County

Bath Presbyterian Church and Cemetery, Edie Bath Rd., 0.5 mi. W of U.S. 1, Blythe, 04001179

Sumter County

Teel—Crawford—Gaston Plantation, 2154 GA 30 W, Americus, 04001188

Thomas County

Thomasville Commercial Historic District (Boundary Increase and Decrease), Downtown Thomasville bet. Jefferson St. and Smith Ave. and bet. Crawford And Siexas St., Thomasville, 04001185

KANSAS

Leavenworth County

Evans Site, (Prehistoric Sites of Stranger Creek Basin, Kansas MPS) Address Restricted, Tonganoxie, 04001190

Scott Site, (Prehistoric Sites of Stranger Creek Basin, Kansas MPS) Address Restricted, Tonganoxie, 04001189

NEVADA

Carson City Independent city

Virginia and Truckee Railway Locomotive #27, 2180 S. Carson St., Carson City (Independent City), 04001198

Churchill County

Fallon City Hall, 55 E. Williams Ave., Fallon, 04001197

NEW JERSEY

Cumberland County

Indian Head Site, Address Restricted, Deerfield Township, 04001196

Hunterdon County

Dawlis Mill—Spring Mill Historic District, 525 and 530 NJ 31, East Amwell, 04001192

Somerset County

VanDerventer—Brunson House, 614 Greenbrook Rd., North Plainfield Borough, 04001191

Warren County

Ramsaysburg Homestead, NJ 46, Knowlton, 04001194

NEW YORK

Monroe County

Marson, George G., House, 39 Dunning Ave., Webster, 04001206

New York County

Biltmore Theater, 261-265 W. 47th St., New York, 04001203

Orange County

Everett—Bradner House, 156 South St., Goshen, 04001204

St. Lawrence County

Pickens Hall, 83 State St., Heuvelton, 04001205

Suffolk County

West Meadow Beach Historic District, Trustees Rd., Stony Brook, 04001195

Westchester County

Peekskill Freight Depot, 41 S. Water St., Peekskill, 04001207

OHIO

Allen County

West Market Street Boulevard Historic District, 1410-1529 W. Market St., Lima, 04001201

Harrison County

Deersville Historic Distirct, Roughly along W. Main St. from 230 W. Main St. to 212 Wl. Main St., Deersville, 04001199

Huron County

Huron County Children's Home, 190 Benedict Ave., Norwalk, 04001200

TEXAS

Comal County

Natural Bridge Caverns Sinkhole Site, Address Restricted, Natural Bridge Caverns, 04001202

[FR Doc. 04-22770 Filed 10-8-04; 8:45 am]

BILLING CODE 4312-51-U